FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011453-006.

Title: Southern Africa/Oceania Agreement.

Parties: A.P. Moller-Maersk A/S; Mediterranean Shipping Co., S.A.; and Safmarine Container Lines N.V.

Filing Party: Wayne R. Rohde, Esq.; Sher & Blackwell LLP; 1850 M Street, NW., Suite 900, Washington, DC 20036.

Synopsis: The amendment revises the number of ships to be deployed under the agreement, adds language regarding the responsibility for the running costs of certain ships, and updates Maersk's trade name.

Agreement No.: 011733-016.

Title: Common Ocean Carrier Platform Agreement.

Parties: A.P. Moller-Maersk A/S; P&O Nedlloyd Limited; Hamburg-Süd; Mediterranean Shipping Company S.A.; CMA CGM S.A.; Hapag Lloyd Container Linie GmbH; and United Arab Shipping Company (SAG) as shareholder parties; and Alianca Navegacao e Logistica Ltda.; Safmarine Container Lines N.V.; Nippon Yusen Kaisha; CP Ships (UK) Limited; Tasman Orient Line C.V.; Mitsui O.S.K. lines Ltd.; CP Ships (USA) LLC; Kawasaki Kisen Kaisha Ltd.; FESCO Ocean Management Ltd.; and Senator Lines GmbH as non-shareholder parties.

Filing Party: Wayne R. Rohde, Esq.; Sher & Blackwell LLP; 1850 M Street, NW., Suite 900, Washington, DC 20036.

Synopsis: The amendment adds Compania Süd Americana de Vapores, S.A.; Companhia Libra de Navegacao; and Norasia Container Lines Limited as non-shareholder parties to the agreement.

Agreement No.: 011936.

Title: CMA-CGM/CSCL Cross Space Charter, Sailing and Cooperative Working Agreement—North Europe/USEC Loop.

Parties: CMA-CGM, S.A., and China Shipping Container Lines Co., Ltd./China Shipping Container Lines (Hong Kong) Co., Ltd.

Filing Party: Brett M. Esber, Esq.; Blank Rome LLP; Watergate; 600 New Hampshire Ave., NW., Washington, DC 20037.

Synopsis: The agreement authorizes CMA-CGM and CSCL to share vessel space in a weekly liner service between ports on the U.S. East Coast and ports in Northern Europe and to engage in related cooperative activities.

Agreement No.: 011937.

Title: MSC/CKY Space Charter Agreement.

Parties: COSCO Container Lines Company, Limited; Kawasaki Kisen Kaisha, Ltd.; Mediterranean Shipping Co. S.A.; and YangMing (UK) Ltd.

Filing Party: Wayne R. Rohde, Esq.; Sher & Blackwell LLP; 1850 M Street, NW., Suite 900, Washington, DC 20036.

Synopsis: The agreement authorizes MSC to charter space to COSCO, K-Line, and YangMing on its service between the U.S. South Atlantic and Gulf Coasts and North Europe.

Agreement No.: 011938.

Title: HSDG/Alianca/CSAV/Libra/Montemar Cooperative Working Agreement.

Parties: Hamburg-Süd.; Alianca Navegacao e Logistica Ltda. e CIA (“Alianza”); Compania Süd Americana de Vapores, S.A. (“CSAV”); Companhia Libra de Navegacao (“Libra”); and Montemar Maritima S.A. (“Montemar”)

Filing Party: Wayne R. Rohde, Esq.; Sher & Blackwell LLP; 1850 M Street, NW., Suite 900, Washington, DC 20036.

Synopsis: The agreement authorizes HSDG and Alianca to take space on CSAV's service and CSAV, Libra, and Montemar to take space on HSDG's service in the trade between the U.S. East Coast and the East Coast of South America. It also authorizes them to engage in a limited range of cooperative activities in connection with the exchange of space.

Agreement No.: 011939.

Title: COSCON/Agreement 011745 Transpacific All Water Vessel Sharing Agreement (Cue Service).

Parties: COSCO Container Lines Company Ltd.; Evergreen Marine Corporation Ltd.; Lloyd Triestino di Navigazione S.p.A.; and Hatsu Marine Limited.

Filing Party: Paul M. Keane, Esq.; Cichanowicz, Callan, Keane, Vengrow & Textor, LLP: 61 Broadway, Suite 3000, New York, NY 10006-2802.

Synopsis: The agreement authorizes the parties to share vessel space in the trade between U.S. East Coast ports and ports in China and Taiwan.

Agreement No.: 201143-006.

Title: West Coast MTO Agreement.

Parties: APM Terminals Pacific, Ltd.; California United Terminals, Inc.; Eagle Marine Services, Ltd.; Husky Terminals and Stevedoring, Inc.; International Transportation Service, Inc.; Long Beach Container Terminal, Inc.; Seaside Transportation Service LLC; Trans Bay Container Terminal, Inc.; Trans Pacific Container Service Corporation; Total Terminals LLC; West Basin Container Terminal LLC; Yusen Terminals, Inc.; Pacific Maritime Services, L.L.C.; and SSA Terminal (Long Beach), LLC.

Filing Party: David F. Smith, Esq.; Sher & Blackwell LLP; 1850 M Street, NW., Suite 900, Washington, DC 20036.

Synopsis: The amendment adds SSA Terminals, LLC as a party + to the agreement.

Agreement No.: 201168.

Title: Surface Lease.

Parties: Lake Charles Harbor & Terminal District and Cameron LNG, LLC.

Filing Party: Michael K. Dees, Esq.; Lake Charles Harbor & Terminal District; P.O. Box 3753, Lake Charles, LA 70602.

Synopsis: The agreement provides for the lease of a certain tract of land for the purpose of loading, unloading, metering, storing, and processing petroleum liquids, natural gas liquids, and other petroleum products.

By Order of the Federal Maritime Commission.
Dated: February 3, 2006.
Bryant L. VanBrakle,
Secretary.

[FR Doc. E6-1715 Filed 2-7-06; 8:45 am]

BILLING CODE 6730-01-P